COMMISSION ON CIVIL RIGHTS

Agendas and Notices of Public Meetings of the Maine Advisory Committee

AGENCY: Commission on Civil Rights.

ACTION: Announcement of a public meetings.

SUMMARY: Notice is hereby given, pursuant to the provisions of the rules and regulations of the U.S. Commission on Civil Rights (Commission), and the Federal Advisory Committee Act (FACA), that the Maine Advisory Committee to the Commission will hold virtual meetings for briefing planning on the following Thursdays at 12:00 p.m. (ET): November 10, 2022, and December 8, 2022. The Committee will also convene virtual briefings to continue hearing from experts on indigent legal services in Maine on the following dates: Tuesday, November 15, 2022, and Thursday, December 15, 2022; both at 12:00 p.m. (ET).

Business Meeting Dates:

• November 10, 2022, Thursday; 12:00 p.m.-1:00 p.m. ET.

Zoom Link (audio and video): https://tinyurl.com/mt6ahce9; password: USCCR-ME.

If joining by phone only: 1-551-285-1373; Meeting ID: 160 500 3847#.

• December 8, 2022, Thursday; 12:00 p.m.-1:00 p.m. ET.

Zoom Link: https://tinyurl.com/mt6ahce9; password: USCCR-ME.

If joining by phone only: 1-551-285-1373; Meeting ID: 160 500 3847#.

Briefing Dates:

• Briefing Panel II: November 15, 2022, Tuesday; 12:00 p.m.-2:00 p.m. ET.

Zoom Link: https://tinyurl.com/2vdbxb8h; password: USCCR-ME.

If joining by phone only: 1-551-285-1373; Meeting ID: 160 968 6548#.

• Briefing Panel III: December 15, 2022, Thursday; 12:00-2:00 p.m. ET.

Zoom Link: https://tinyurl.com/ymkdct4v; password: USCCR-ME.

If joining by phone only: 1-551-285-1373; Meeting ID: 160 320 9879#.

FOR FURTHER INFORMATION CONTACT: Liliana Schiller at lschiller@usccr.gov or via phone at 312-353-8311.

SUPPLEMENTARY INFORMATION: These meetings are available to the public through the WebEx link above. If joining only via phone, callers can expect to incur charges for calls they initiate over wireless lines, and the Commission will not refund any incurred charges. Individuals who are deaf, deafblind and hard of hearing, may also follow the proceedings by first calling the Federal Relay Service at 1-800-877-8339 and providing the Service with the call-in number found through registering at the web link provided for these meetings.

Members of the public are entitled to make comments during the open period at the end of the meetings. Members of the public may also submit written comments; the comments must be received in the Regional Programs Unit within 30 days following the meeting. Written comments may be emailed to Liliana Schiller at lschiller@usccr.gov. Persons who desire additional information may contact the Regional Programs Unit at (202) 539-8246. Records and documents discussed during the meetings will be available for public viewing as they become available at www.facadatabase.gov. Persons interested in the work of this advisory committee are advised to go to the Commission's website, www.usccr.gov, or to contact the Regional Programs Unit at the above phone number or email address.

Business Meeting Agendas

Thursdays at 12:00 p.m.: Nov. 10 and Dec. 8, 2022

I. Welcome & Roll Call

II. Briefing Discussions

III.

IV.

V. Public Comment

VI. Adjournment

Briefing Agendas

Tuesday, Nov. 15 and Thursday, Dec. 15, 2022; both at 12:00 p.m. ET

I. Welcome & Roll Call

II. Briefing on Indigent Legal Services in Maine: Panels II and III

III.

IV.

V. Public Comment

VI. Adjournment

Dated: October 13, 2022.
David Mussatt,
Supervisory Chief, Regional Programs Unit.

[FR Doc. 2022-22606 Filed 10-17-22; 8:45 am]

BILLING CODE P